DEPARTMENT OF LABOR

Employment and Training Administration

[NAFTA-6506]

Motorola, Incorporated, Semiconductor Products Sector, Bipolar Manufacturing Center, Including Workers of the Facilities Workgroup, Mesa, AZ; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA-Transitional Adjustment Assistance on September 24, 2002, applicable to all workers of Motorola, Incorporated, Semiconductor Products Center, BiPolar Manufacturing Center, Mesa, Arizona. The notice was published in the Federal Register on October 10, 2002 (67 FR 36160).

At the request of the State agency, the Department reviewed the certification for workers of the subject firm. The workers produced sensor wafers. Information provided by the subject firm shows that although workers employed in the Facilities Workgroup or in “Site Services” were not employees of the BiPolar Manufacturing Center, they maintained plant facilities and supported production at the facility.

Based on this information, the Department is amending the certification to include workers of the Facilities Workgroup engaged in employment related to the production of pressure sensor wafers at the subject firm.

The intent of the Department's certification is to include all workers of the subject firm who were adversely affected by the shift in production of pressure sensor wafers to Canada.

The amended notice applicable to NAFTA-6506 is hereby issued as follows:

All workers of Motorola, Incorporated, Semiconductor Products Center, BiPolar Manufacturing Center, Mesa, Arizona, engaged in the production of sensor pressure wagers, and including workers in the Facilities Workgroup at the site who became totally or partially separated from employment on or after August 26, 2001, through September 24, 2004 are eligible to apply for NAFTA-TAA under Section 250 of the Trade Act of 1974.

Signed at Washington, DC this 16th day of May 2003.
Richard Church,
Certifying Officer, Division of Trade Adjustment Assistance.

[FR Doc. 03-17443 Filed 7-9-03; 8:45 am]

BILLING CODE 4510-30-P